DEPARTMENT OF THE INTERIOR

National Park Service

Notice of Intent To Prepare an Environmental Impact Statement (EIS) for the General Management Plan (GMP) for Chickamauga and Chattanooga National Military Park in Tennessee and Georgia

SUMMARY: Pursuant to 42 U.S.C. 4332(2)(C) of the National Environmental Policy Act of 1969 and Director's Order Number 12 (Conservation Planning, Environmental Impact Analysis, and Decision-Making) the NPS is preparing an EIS for a GMP for Chickamauga and Chattanooga National Military Park, located in Tennessee and Georgia.

The GMP will prescribe the desired resource conditions and visitor experience opportunities that are to be achieved and maintained in the park over approximately the next 15 to 20 years. The park's purpose, significance, special mandates, and relevant laws and policies directing park management will be reviewed and assessed to establish the foundation for the GMP. The GMP will build upon these foundation elements to determine the appropriate type, level and location for resource management activities, visitor use, and potential development. In consultation with the park's stakeholders (i.e., government agencies, affiliated tribal representatives, partnership organizations, and other concerned members of the public), issues bearing on the long-term management of the park will be factored into the development of a reasonable range of management alternatives. The resource impacts and other anticipated consequences of implementing the planning alternatives will be assessed in the EIS.

From initial discussions among NPS planners, park staff and partners, issues that are anticipated to be addressed by the GMP will include (but are not limited to) the following: Long-term management of the battlefield landscape to achieve objectives for restoring historic viewsheds and protecting important cultural and natural resources; articulation of resource stewardship and visitor management prescriptions for the recently acquired Moccasin Bend National Archeological District; determination of a range of appropriate and compatible visitor activities in the park; and, identification of opportunities for collaboration and partnership with community leaders and other entities to ensure park values are understood and considered in local decision making (e.g., viewshed protection and adjacent land-use).

DATES: Any comments on the scope of issues to be addressed in the GMP should be submitted no later than 30 days after public meetings. Public scoping meetings regarding the GMP will be held to allow an opportunity for stakeholders and other members of the public to bring issues and other concerns to the attention of the NPS planning team. Government-to-government meetings with tribal representatives will also be held. Specific dates, times, and locations will be made available in the local media, on the NPS Planning, Environment and Public Comment (PEPC) Web site (http://parkplanning.nps.gov/chch), or by contacting the Superintendent of Chickamauga and Chattanooga National Military Park.

ADDRESSES: Information on the planning process and copies of newsletters will be available from the office of the Superintendent, Chickamauga and Chattanooga National Military Park, P.O. Box 2128, Fort Oglethorpe, GA 30742.

SUPPLEMENTARY INFORMATION: Public and agency involvement will be solicited at several key steps in the planning process including initial scoping, alternatives development, and the draft plan. If you wish to comment on any issues associated with the GMP, you may submit your concerns to the planning team by any of several methods. You may mail comments to Chickamauga and Chattanooga National Military Park, P.O. Box 2128, Fort Oglethorpe, Georgia 30742. You may comment electronically at http://parkplanning.nps.gov/chch. You may also hand-deliver comments to park headquarters located at 3370 LaFayette Road, Fort Oglethorpe, Georgia. Before including your address, phone number, e-mail address, or other personal identifying information in your comment, be advised that your entire comment—including your personal identifying information—may be made publicly available at any time. While you can ask us in your comment to withhold from public review your personal identifying information, we cannot guarantee that we will be able to do so.

FOR FURTHER INFORMATION CONTACT: Superintendent Shawn Benge, Chickamauga and Chattanooga National Military Park, P.O. Box 2128, Fort Oglethorpe, GA 30742; phone: (423) 752-5213. The responsible official for this EIS is the Regional Director, Southeast Region, National Park Service, 100 Alabama Street, SW., 1924 Building, Atlanta, Georgia 30303.

Authority: The authority for publishing this notice is contained in 40 CFR 1506.6.

Dated: November 3, 2008.
David Vela,
Regional Director, Southeast Region, National Park Service.

[FR Doc. E8-29520 Filed 12-12-08; 8:45 am]

BILLING CODE 4310-70-P